DEPARTMENT OF THE INTERIOR

Bureau of Safety and Environmental Enforcement (BSEE)

[Docket ID BSEE-2012-0010; OMB Number 1014-0007]

Information Collection Activities: Oil-Spill Response Requirements for Facilities Located Seaward of the Coast Line; Submitted for Office of Management and Budget (OMB) Review; Comment Request

ACTION: 30-Day notice.

SUMMARY: To comply with the Paperwork Reduction Act of 1995 (PRA), we are notifying the public that we have submitted to OMB an information collection request (ICR) to renew approval of the paperwork requirements in the regulations under 30 CFR Part 254, “Oil-Spill Response Requirements for Facilities Located Seaward of the Coast Line.” This notice also provides the public a second opportunity to comment on the paperwork burden of these regulatory requirements.

DATES: You must submit comments by November 5, 2012.

ADDRESSES: Submit comments by either fax (202) 395-5806 or email (OIRA_DOCKET@omb.eop.gov) directly to the Office of Information and Regulatory Affairs, OMB, Attention: Desk Officer for the Department of the Interior (1014-0007). Please provide a copy of your comments to BSEE by any of the means below.

• Electronically: go to http://www.regulations.gov. In the entry titled, “Enter Keyword or ID,” enter BSEE-2012-0010 then click search. Follow the instructions to submit public comments and view all related materials. We will post all comments.

• Email Nicole.Mason@bsee.gov, fax (703) 787-1546, or mail or hand-carry comments to: Department of the Interior; Bureau of Safety and Environmental Enforcement; Regulations and Standards Branch; Attention: Nicole Mason; 381 Elden Street, HE3313; Herndon, Virginia 20170-4817. Please reference 1014-0007 in your comment and include your name and return address.

FOR FURTHER INFORMATION CONTACT: Nicole Mason, Regulations and Standards Branch, (703) 787-1605, to request additional information about this ICR. To see a copy of the entire ICR submitted to OMB, go to http://www.reginfo.gov (select Information Collection Review, Currently Under Review).

SUPPLEMENTARY INFORMATION: Title: 30 CFR 254, Oil-Spill Response Requirements for Facilities Located Seaward of the Coast Line.

OMB Control Number: 1014-0007.

Abstract: The Federal Water Pollution Control Act, as amended by the Oil Pollution Act of 1990 (OPA), requires that a spill-response plan be submitted for offshore facilities prior to February 18, 1993. The OPA specifies that after that date, an offshore facility may not handle, store, or transport oil unless a plan has been submitted. The authority and responsibility were delegated to BSEE by Executive Order 12777—Implementation of Section 311 of the Federal Water Pollution Control Act of October 18, 1972, as Amended, and the Oil Pollution Act of 1990. Regulations at 30 CFR 254 establish requirements for spill-response plans for oil-handling facilities seaward of the coast line, including associated pipelines. This request also covers the related Notices to Lessees and Operators (NTLs) that BSEE issues to clarify, supplement, or provide additional guidance on some aspects of our regulations.

The BSEE uses the information collected under 30 CFR 254 to determine compliance with OPA by lessees/operators. Specifically, BSEE needs the information to:

• Determine that lessees/operators have an adequate plan and are sufficiently prepared to implement a quick and effective response to a discharge of oil from their facilities or operations.

• Review plans prepared under the regulations of a State and submitted to BSEE to satisfy the requirements in 30 CFR 254 to ensure that they meet minimum requirements of OPA.

• Verify that personnel involved in oil-spill response are properly trained and familiar with the requirements of the spill-response plans and to lead and witness spill-response exercises;

• Assess the sufficiency and availability of contractor equipment and materials;

• Verify that sufficient quantities of equipment are available and in working order;

• Oversee spill-response efforts and maintain official records of pollution events; and

• Assess the efforts of lessees/operators to prevent oil spills or prevent substantial threats of such discharges.

No confidential or proprietary information is collected in 30 CFR 254. Responses are mandatory.

Frequency: On occasion, monthly, annually, and biennially.

Description of Respondents: Potential respondents comprise Federal oil, gas, or sulphur lessees or operators of facilities located in both State and Federal waters seaward of the coast line and oil-spill response companies.

Estimated Reporting and Recordkeeping Hour Burden: The estimated annual hour burden for this information collection is a total of 60,198 hours. The following chart details the individual components and estimated hour burdens. In calculating the burdens, we assumed that respondents perform certain requirements in the normal course of their activities. We consider these to be usual and customary and took that into account in estimating the burden.

30 CFR 254 and NTLs | Reporting requirement | Hour burden | Average Number of annual responses | Annual burden hours
Subpart A—General
1(a) thru (d); 2(a); 3 thru 5; 7; 20 thru 29; 44(b) | Submit spill response plan for OCS facilities and related documents | 250 | 26 new plans | 6,500
1(e) | Request BSEE jurisdiction over facility landward of coast line (no recent request received) | 0.5 | 2 requests | 1
2(b) | Submit certification of capability to respond to worst case discharge or substantial threat of such | 19 | 1 certification | 19
2(c); 30 | Submit revised spill response plan for OCS facilities at least every 2 years; notify BSEE of no change | 64 | 177 revised plans | 11,328
|  | 1 | 1 plan | 1
2(c) | Request deadline extension for submission of revised plan | 4 | 11 extensions | 44
8 | Appeal BSEE orders or decisions | Exempt under 5 CFR 1320.4(a)(2), (c) |  | 0
|  | Subtotal | 218 responses | 17,893 hours
Subpart C—Related Requirements for OCS Facilities
40 | Make records of all OSRO-provided services, equipment, personnel available to BSEE | 5 | 20 records | 100
41 | Conduct annual training; retain training records for 2 years | 49 | 197 owners/ operators | 9,653
42(a) thru (e) | Conduct triennial response plan exercise; retain exercise records for 3 years | 200 | 134 exercises | 26,800
42(f) | Inform BSEE of the date of any exercise (triennial) | 1 | 170 notifications | 170
43 | Inspect response equipment monthly; retain inspection & maintenance records for 2 years | 3.5 | 55 inspections x 12 months = 660 | 2,310
46(a) NTL | Notify NRC of all oil spills from owner/operator facility | Burden would be included in the NRC inventory |  | 0
46(b) NTL(s) | Notify BSEE of oil spills of one barrel or more from owner/operator facility; submit follow-up report; after catastrophic event may be requested to meet w/BSEE to discuss storm recovery strategies/pollution | 2 | 61 notifications & reports | 122
46(c) | Notify BSEE & responsible party of oil spills from operations at another facility | 2 | 24 notifications | 48
|  | Subtotal | 1,266 responses | 39,203 hours
Subpart D—Oil Spill Response Requirements for Facilities Located in State Waters Seaward of the Coast Line
50; 51 | Submit response plan for facility in State waters by modifying existing OCS plan | 42 | 10 plans | 420
50; 52 | Submit response plan for facility in State waters following format for OCS plan | 100 | 9 plans | 900
50; 53 | Submit response plan for facility in State waters developed under State requirements | 89 | 18 plans | 1,602
54 | Submit description of oil-spill prevention procedures and demonstrate compliance | 5 | 36 submissions | 180
|  | Subtotal | 73 responses | 3,102 hours
TOTAL HOUR BURDEN | 1,557 Responses | 60,198 Hours

Estimated Reporting and Recordkeeping Non-Hour Cost Burden: We have identified no non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on June 6, 2012, we published a Federal Register notice (77 FR 33479) announcing that we would submit this ICR to OMB for approval. The notice provided the required 60-day comment period. In addition, § 254.9 provides the OMB control number for the information collection requirements imposed by the 30 CFR 254 regulations. The regulation also informs the public that they may comment at any time on the collections of information and provides the address to which they should send comments. We have received no comments in response to these efforts.

Public Availability of Comments: Before including your address, phone number, email address, or other personal identifying information in your comment, you should be aware that your entire comment—including your personal identifying information—may be made publicly available at any time. While you can ask us in your comment to withhold your personal identifying information from public review, we cannot guarantee that we will be able to do so.

Acting BSEE Information Collection Clearance Officer: Cheryl Blundon (703) 787-1607.

Dated: September 18, 2012.
Robert W. Middleton,
Deputy Chief, Office of Offshore Regulatory Programs.

[FR Doc. 2012-24471 Filed 10-3-12; 8:45 am]

BILLING CODE 4310-VH-P